SMALL BUSINESS ADMINISTRATION

Declaration of Military Reservist Economic Injury Disaster Loan #R401

As a result of Public Law 106-50, the Veterans Entrepreneurship and Small Business Development Act of 1999, this notice establishes the application filing period for the Military Reservist Economic Injury Disaster Loan Program. Effective August 24, 2001, small businesses employing military reservists may apply for economic injury disaster loans if those employees are called up to active duty during a period of military conflict existing on or after March 24, 1999 and those employees are essential to the success of the small business daily operations. Since this program applies to military conflicts existing on or after March 24, 1999, small businesses that meet all other eligibility criteria will have until November 26, 2001 to apply. Otherwise the filing period for small businesses to apply for economic injury loan assistance under the Military Reservist Economic Injury Disaster Loan Program begins on the date the essential employee is ordered to active duty and ends on the date 90 days after the essential employee is discharged or released from active duty.

The purpose of the Military Reservist Economic Injury Disaster Loan Program (MREIDL) is to provide funds to eligible small businesses to meet its ordinary and necessary operating expenses that it could have met, but is unable to meet, because an essential employee was called-up to active duty in their role as a military reservist. These loans are intended only to provide the amount of working capital needed by a small business to pay its necessary obligations as they mature until operations return to normal after the essential employee is released from active military duty.

Applications for loans for Military Reservist Economic Injury Loans may be obtained and filed at the address listed below: U.S. Small Business Administration, Disaster Area 4 Office, P.O. Box 13795, Sacramento, CA 95853-4795, 1-800-488-5323.

The interest rate for eligible small businesses is 4 percent. The number assigned for economic injury is R40100.

(Catalog of Federal Domestic Assistance Program No. 59002.)
Dated: August 16, 2001.
Herbert L. Mitchell,
Associate Administrator For Disaster Assistance.

[FR Doc. 01-21204 Filed 8-21-01; 8:45 am]

BILLING CODE 8025-01-P